DEPARTMENT OF HEALTH AND HUMAN SERVICES

Office of Inspector General

Program Exclusions: April 2000

AGENCY: Office of Inspector General, HHS.

ACTION: Notice of program exclusions.

During the month of April 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, City, State | Effective date
Program-Related Convictions
Akpan, Adelia, Brooklyn, NY | 05/18/2000
Andrickson, Eduardo, Flushing, NY | 05/18/2000
Arcilla, Coleen Burke, Ronkonkoma, NY | 05/18/2000
Arrillaga, Abenamar, White Deer, PA | 05/18/2000
Askanazi, Jeffrey, Hudson, OH | 05/18/2000
Balakrishna, Banga M., Bloomfield Hills, MI | 05/18/2000
Beehm, William, Penfield, NY | 05/18/2000
Berlin, Sanford, Tucson, AZ | 05/18/2000
| 05/18/2000
Blanchard, Douglas J., Orange Park, FL | 05/18/2000
Boudreaux, Jeffrey D., Baton Rouge, LA | 05/18/2000
Burnette, Barbara E., Boca Raton, FL | 05/18/2000
Cornett, Marston, Hazard, KY | 05/18/2000
Costa, Karen T., Northfield, NH | 05/18/2000
Darty, Gwendolyn W., Mobile, AL | 05/18/2000
Doble, Brook A., Shoreline, WA | 05/18/2000
Dubovoy, Alexander, Mineola, NY | 05/18/2000
Eastern Medical Billing, Inc., Lewisburg, PA | 05/18/2000
Elk Transportation, Inc., Lewisburg, PA | 05/18/2000
Fort, Daniel, Miami, FL | 05/18/2000
Frazier, Jerry Lee, Sr., Harvey, LA | 05/18/2000
Freitag, Joseph Harry, Denver, CO | 05/18/2000
Fuller, Marie Rose, Medford, OR | 05/18/2000
Garcia, Gerald H., Jr., Bisbee, AZ | 05/18/2000
Gates, Eveline, Lafayette, NY | 05/18/2000
Gomez, Francisco, Bronx, NY | 05/18/2000
Harris, William H., Toledo, OH | 05/18/2000
Hasan, Isa, Northville, MI | 05/18/2000
Hurley, Samantha L., Daleville, IN | 05/18/2000
Independence Ems, Inc., Lewisburg, PA | 05/18/2000
Jarrell, Jay A., Chapel Hill, NC | 05/18/2000
Kestel, Scott C., Ontario, OR | 05/18/2000
Kirwan, Jonathan J., Penfield, NY | 05/18/2000
Lenard, Kimberly, Oden, AR | 05/18/2000
Leon, Jack, Vineland, NJ | 05/18/2000
Leonard, Jonathan B., New York, NY | 05/18/2000
Lunsford Wood, Juanita, Pine Bluff, AR | 05/18/2000
Mansfield, Rebecca J., Benton, AR | 05/18/2000
Mason, Tracy, Cabot, AR | 05/18/2000
Medical Services Corps, Inc., Lewisburg, PA | 05/18/2000
Medmaster Service, Inc., Lutz, FL | 12/2/2000
Miller Cab Company, Hazard, KY | 05/18/2000
Moreano, Augusto G., Dix Hills, NY | 05/18/2000
Munoz, Ruben, Hialeah Gardens, FL | 05/18/2000
NCC Transportation, Inc., Lewisburg, PA | 05/18/2000
Nelson, Tamara H., Alpine, Tx | 05/18/2000
Nguyen, Danh The, N Las Vegas, NV | 05/18/2000
Oganesyan, Gagik, Sherman Oaks, CA | 05/18/2000
Parikh, Jyotika, N Woodmere, NY | 05/18/2000
Phillips, Henry J., Cooperstown, NY | 05/18/2000
Plinto, Stephen T., Parlin, NJ | 05/18/2000
Podlaseck, David A., Lewisburg, PA | 05/18/2000
Poklaseck, Joseph Anthony, Lewisburg, PA | 05/18/2000
Reynolds, Darl E., Columbus, OH | 05/18/2000
Rosati, Samuel M., Bradford, PA | 05/18/2000
Saakian, Manouk, N Hollywood, CA | 05/18/2000
Safe-T Ambulette, Inc., Bronx, NY | 05/18/2000
Shah, Jitrendra C., Staten Island, NY | 05/18/2000
Showalter, Carl Robert, Harrisonburg, VA | 05/18/2000
Sorongon, Marcelino, Ramsey, NJ | 05/18/2000
Stabeno, Vonnie Peel, Elgin, TX | 05/18/2000
Syme, Robert U., Lewisburg PA | 05/18/2000
Thompson-Johnson, Elizabeth, College Park, GA | 05/18/2000
Ting, Li-Jen, Lancaster, OH | 05/18/2000
Torres, Graciela N., Miami, FL | 05/18/2000
Whiteside, Robert W., Brentwood, TN | 05/18/2000
Yang, Gai-Fu, Flushing, NY | 01/12/2000
You, Dynnard Lenny, Long Beach, CA | 05/18/2000
Zarate, Juan C., Lake in the Hills, IL | 10/27/1999
Felony Conviction for Health Care Fraud
Aaron, Howard, Fairton, NJ | 05/18/2000
Burstein, Alan G., Williamsville, NY | 05/18/2000
Byers, Karen C, Greenville, SC | 05/18/2000
Cafferky, Kevin, Landsdale, PA | 05/18/2000
Hall, Cathy, L., Duncanville, AL | 05/18/2000
Hinkle, Cynthia D., Chesterfield, VA | 05/18/2000
Kirks, Donald R., San Antonio, TX | 05/18/2000
Levine, Edward J., Colts Neck, NJ | 05/18/2000
Tripp, Donna F., Delton, FL | 05/18/2000
Felony Control Substances Conviction
Czarnecki, Mary E., Leesburg, VA | 05/18/2000
Eastburn, Timothy D., Sarasota, FL | 05/18/2000
Gulla, Frank T., Wayne, NJ | 05/18/2000
Hocevar, William J., Madison, OH | 05/18/2000
Marchese, Joseph M., Dunmore, PA | 05/18/2000
Miko, Leland Richard, Hayward, CA | 05/18/2000
Naughton, Lourdes Ann, Scranton, PA | 05/18/2000
Nuttle, Dana Kay, Pawnee, OK | 05/18/2000
Parri, Bernadette, Peckville, PA | 05/18/2000
Powell, Sherry Campbell, Shippensburg, PA | 05/18/2000
Rosato, Donald J., Montgomery, PA | 05/18/2000
Sarnecki, Conrad J. Jr., Plains, PA | 05/18/2000
Woods, Patrice Morgan, Camp Hill, PA | 05/18/2000
Zito, Joseph Anthony, New York, NY | 05/18/2000
Patient Abuse Neglect Convictions
Berry, Ricky Lee, Oklahoma City, OK | 05/18/2000
Carroll, Nancy C., Senatobia, MS | 05/18/2000
Coffey, Edward M., Englewood, CO | 05/18/2000
Daly, Sara Rivers, N Charleston, SC | 05/18/2000
Dawson, Deanna, Clinton, MS | 05/18/2000
Dennis, Tonya D., Camden, AR | 05/18/2000
Exum, Parthenia, Wilmington, DE | 05/18/2000
Ford, Dale Allen, Crossville, TN | 05/18/2000
Freeman, Dean Andre, San Quentin, CA | 05/18/2000
Gregory, Doris, Lucedale, MS | 05/18/2000
Hamilton, Cynthia, Alton, IL | 05/18/2000
Harrington, James William, II., Sherwood, AR | 05/18/2000
Hernandez, Juanita, Corpus Christi, TX | 05/18/2000
Hill, Gail Leniase, Shreveport, LA | 05/18/2000
Howze, Tyrone, New York, NY | 05/18/2000
Jennings, Diane A., Garfield Hgts, OH | 05/18/2000
Jones, Terrence, Youngstown, OH | 05/18/2000
Kinoo, Samuel, Richmond, VA | 05/18/2000
Long, Joanne D., Homer, NY | 05/18/2000
Macpeek, Elizabeth L., Lyndonville, NY | 05/18/2000
Mathews, Mariamma, Ridgewood, NY | 05/18/2000
Metzler, Jacklyn L., Newark, DE | 05/18/2000
Miller, Tammy L., Lawrenceville, IL | 05/18/2000
Miller, Phyllis D., Cincinnati, OH | 05/18/2000
Moore, Heather, Elmira, NY | 05/18/2000
Moore, Joseph, Philadelphia, PA | 05/18/2000
Mullins, Kendra D., Lawton, OK | 05/18/2000
Page, Dorothy, Union, MS | 05/18/2000
Parker, Chester A., E Cleveland, OH | 05/18/2000
Posner, Robert S., Brooklyn, NY | 05/18/2000
Prater, Lavonda, Bedford Hills, NY | 05/18/2000
Randall, Margaret Ann, Shutesbury, MA | 05/18/2000
Rhein, Anna L., Wooster, OH | 05/18/2000
Riley, Dawn M., Pekin, IL | 05/18/2000
Robinson, Paula Ann, McQueeney, TX | 05/18/2000
Rubadue, Bernard James, Ogdensburg, NY | 05/18/2000
Rumley, Linda Ruth, Gage,OK | 05/18/2000
Sanders, Felicia, Freeport, NY | 05/18/2000
Steele, Elizabeth, Morton, MS | 05/18/2000
Stiggins, Laura D., Arkport, NY | 05/18/2000
Tillman, Harold, Lawton, OK | 05/18/2000
Williams, Rachel M., Toledo, OH | 05/18/2000
Wright, Stephanie, Baltimore, MD | 05/18/2000
Conviction for Health Care Fraud
Carpenter, Selena M., Waterville, ME | 05/18/2000
Crushfield, Toni, Saint Rose, LA | 05/18/2000
Cushnie, William Paul, Angola, NY | 05/18/2000
Griffin, Antonia Danielle, Zachary, LA | 05/18/2000
License Revocation/Suspension/Surrendered
Aboumahboub, Shahram, Norwood, MA | 05/18/2000
Adams, Barton J., Manchester Ctr, VT | 05/18/2000
Allain, Joseph Michael, Abbeville, LA | 05/18/2000
Allen, Jason Wayne, Desert Hot Springs, CA | 05/18/2000
Anderson, Madeline C., Southampton, PA | 05/18/2000
Andrews, Maya Janica, Colton, CA | 05/18/2000
Arminski, Mari-Jo, Bradbury, CA | 05/18/2000
Armstrong, John Franklin, New Braunfels, TX | 05/18/2000
Atteridge, Gail Marcia, Princeton, TX | 05/18/2000
Baker, Pamela A., Birmingham, AL | 05/18/2000
Ballard, Joyce M., Naples, FL | 05/18/2000
Beckman, Sherry Lynn, Hoover, AL | 05/18/2000
Bendall, Sherry Ann, Laguna Hills, CA | 05/18/2000
Benninghoff, John C., Eagan, MN | 05/18/2000
Biggs, Donna L., Portsmouth, VA | 05/18/2000
Bouchard, Carol, Pittsburg, PA | 05/18/2000
Boykin, Lesa Ann, Decatur, AL | 05/18/2000
Briones, Ricardo Aguila, Temecula, CA | 05/18/2000
Bronder, Rosemry, Mitchellville, MD | 05/18/2000
Brown, Stephanie Michelle, Birmingham, AL | 05/18/2000
Burke, Robert C., Los Angeles, CA | 05/18/2000
Burwell, Jeffrey Eugene, Plain City, OH | 05/18/2000
Chard-Yaron, Robert, San Diego, CA | 05/18/2000
Christian, Kimary Ann, Killeen, TX | 05/18/2000
Claney, Jonathan Holt, Norristown, PA | 05/18/2000
Clawser, Samuel M., Leesburg, FL | 05/18/2000
Clemmer, Lisa A., Boyertown, PA | 05/18/2000
Cloutier, Jennifer, Portsmouth, NH | 05/18/2000
Costopoulos, Aleta M., Westboro, MA | 05/18/2000
Cote, Roberta L., Manchester, NH | 05/18/2000
Criqui, Mary, Cheshire, CT | 05/18/2000
Cullen, Judith, Wolcott, CT | 05/18/2000
Culpepper, Lora Nell, Montgomery, AL | 05/18/2000
Davis, Theresa Jean Trimble Lanett, AL | 05/18/2000
Delaney, Mary Ann White, Louisville, KY | 05/18/2000
Demary, Deborah Harrington, Windsor, MA | 05/18/2000
Derioto, Toni Anne, Boston, MA | 05/18/2000
Dittman, Beverly Stroup, Lewis Run, PA | 05/18/2000
Dominguez, Ralph Zepherinus, Ontario, CA | 05/18/2000
Donaho, Robert C., Peoria, IL | 05/18/2000
Dunlap, Yvonne Delores, Mobile, AL | 05/18/2000
Durrell, Charles Lyle, Jr., South Barre, VT | 05/18/2000
Edmunds, John J., Londonderry, NH | 05/18/2000
Eldred, Julie A., Derry, NH | 05/18/2000
Ellis, Sheryl, Charlevoix, MI | 05/18/2000
Emberling, Merlelyn Gaea, Cumby, TX | 05/18/2000
Emery, Phyllis, Antrim, NH | 05/18/2000
Erb, Celine Strzelecki, West Chester, PA | 05/18/2000
Fagenstorm, Patrick Cregor, San Diego, CA | 05/18/2000
Fallwell, Tobi Jo, Copperas Cover, TX | 05/18/2000
Fisher, Marian L., Titusville, FL | 05/18/2000
Flynn, Kathleen M., W. Warwick, RI | 05/18/2000
Ford, Deborah L., Findlay, OH | 05/18/2000
Frankel, Lee, Freehold, NJ | 05/18/2000
Frawley, Gale D., Dover, MA | 05/18/2000
Garcia, Ingrid Judith, San Bernardino, CA | 05/18/2000
Gebo, Kevin Patrick, Tallahassee, FL | 05/18/2000
Gercken, Dawn Theresa Schorr, Birmingham, AL | 05/18/2000
Gilmore, Keith J., Philadelphia, PA | 05/18/2000
Girouard, Herve J., Bedford, MA | 05/18/2000
Glick-Scroggins, Beth Ann, Alameda, CA | 05/18/2000
Goris, Lynnette M., Parma, MI | 05/18/2000
Gray, Kirk Derek, Ventura, CA | 05/18/2000
Greenwood, Lisa Stoudt, Trappe, PA | 05/18/2000
Grimes, James M., Baltimore, MD | 05/18/2000
Habib, Roshdy, Bulter, AL | 05/18/2000
Hansen, Barbara J., Fargo, ND | 05/18/2000
Harrison, Debra A., Mantachie, MS | 05/18/2000
Healy, Paul Richard, Culver City, CA | 05/18/2000
Henley, Patrick E., Anniston, AL | 05/18/2000
Higgins, Andrew E., Sheffield, MA | 05/18/2000
Highwood, Antonio, San Antonio, TX | 05/18/2000
Holt, James Francis, Atascadero, CA | 05/18/2000
Howell, Teresa, Providence, RI | 05/18/2000
Hubbard, Patricia M., St. Johnsbury, VT | 05/18/2000
Hughes, Kelly Denise, Wasco, CA | 05/18/2000
Hughes, Herschel Roland, Riverside, CA | 05/18/2000
Hutchings, Lori A., Medford, MA | 05/18/2000
Hyde, Michael Evan, San Diego, CA | 05/18/2000
Imhoff, Barbara A., Aliquippa, PA | 05/18/2000
Jacob, Sosamma Mathai, Dallas, TX | 05/18/2000
Janota, Rudy, Coppell, TX | 05/18/2000
Jardon, Leonard A., Burbank, CA | 05/18/2000
Johnson, Tyrone Joseph, San Diego, CA | 05/18/2000
Johnson-Pommier, Lynne, Virginia, MN | 05/18/2000
Johnston, Jack H., Ellijay, GA | 05/18/2000
Jones, Patricia E., Mulkeytown, IL | 05/18/2000
Kelly, Bonnie R., Aurora, IL | 05/18/2000
Kerns, Donna R., Staunton, VA | 05/18/2000
Kim, Ray Kyusuk, Santa Ana, CA | 05/18/2000
King, Kimberly Ann, Waxahachie, TX | 05/18/2000
Koch, Patricia Alice, Fremont, CA | 05/18/2000
Lambert, Vickie L., Pinckney, MI | 05/18/2000
Lange, Sylvia R., Woonsocket, RI | 05/18/2000
Lapre, Katherine A., New Bedford, MA | 05/18/2000
Lee, Carlvent Todd, Tuskegee, AL | 05/18/2000
Levan, Judith Margaret, Cypress, TX | 05/18/2000
Lim, Denna Mae, Marysville, CA | 05/18/2000
Lindenberg, Dresina, Bradenton, FL | 05/18/2000
Lockhart, Charles Ronnie, Jr., Birmingham, AL | 05/18/2000
Lockwood, Laura F., Edgewater, FL | 05/18/2000
Lucas, Cynthia A., Green Valley Lake, CA | 05/18/2000
Lynn, Gary B., Oakford, IL | 05/18/2000
Mappes, Michael R., Plymouth, MA | 05/18/2000
Maraggia, Debra Denise, Gilmer, TX | 05/18/2000
Marshall, Raymond G., Danville, KY | 05/18/2000
Martina, John Gordon, Larkspur, CA | 05/18/2000
Martinez, Michael Angelo, Fresno, CA | 05/18/2000
Maxwell, Clifton, Fontana, CA | 05/18/2000
McCrae, Cheryl, Phoenix, AZ | 05/18/2000
McDonald, Susan Jill, Strathmore, CA | 05/18/2000
McGowen, Brenda Jane, Putney, VT | 05/18/2000
McKenzie, Kenneth Ray, Freedom, CA | 05/18/2000
McKeon, Sally A., North Adams, MA | 05/18/2000
McNulty, Christine M., Lowell, MA | 05/18/2000
Meek, Charles G., Jacksonville, FL | 05/18/2000
Mendoza, Jeanette Marie, San Bernardino, CA | 05/18/2000
Mettetal, Ray Wallace, Jr., Petersburg, VA | 05/18/2000
Mims, Andrea F. Vaughn, Dothan, AL | 05/18/2000
Mitchel, Debrann Washington, Elizabeth City, NC | 05/18/2000
Mix, Jo Ann Hyde, Mt Dora, FL | 05/18/2000
Monroe, Nina Suzette, Tuscaloosa, AL | 05/18/2000
Montgomery, James Joseph, Santa Ana, CA | 05/18/2000
Moore, Minnie Rose Hudson, Midfield, AL | 05/18/2000
Moore, Tracy Lynn, Dallas, TX | 05/18/2000
Morris, Jennifer L., Ft. Myers, FL | 05/18/2000
Morrison, Toni L., Davison, MI | 05/18/2000
Mosley, Victoria Henry, Scottsburg, VA | 05/18/2000
Mouton, Joan Theresa, Sacramento, CA | 05/18/2000
Myers, Edward Cary, Mineral Wells, TX | 05/18/2000
Napoli, Anthony J., Saco, ME | 05/18/2000
Naylor, Janice, Smyrna, GA | 05/18/2000
Neblett, Sandra Elaine, Bryan, TX | 05/18/2000
Nelson, Douglas C., Lake Park, IA | 05/18/2000
Newberry, Dena L., Decatur, IL | 05/18/2000
Newman, Lee David, Los Angeles, CA | 05/18/2000
Newman, Enloe O., Baldwin Park, CA | 05/18/2000
Nicholas, Martin Price, Birmingham, AL | 05/18/2000
Odom-Hickey, William Alex, Philadelphia, PA | 05/18/2000
Ouimet, Michael H., Foxboro, MA | 05/18/2000
Panganiban, Antoinette Tapat A., Lakewood, CA | 05/18/2000
Parker, Ramona C., Jacksonville, FL | 05/18/2000
Payne, Diane Denise, Fort Worth, TX | 05/18/2000
Pfeiffer, Marilyn L., Gainesville, FL | 05/18/2000
Phelps, Luann, Manchester, NH | 05/18/2000
Platt, Robin Anne, W. Covina, CA | 05/18/2000
Pokki, Aaron E., Templeton, MA | 05/18/2000
Posey, Linda Sue Hooper, Cherokee, AL | 05/18/2000
Prentiss, Bettie W., Madison, VA | 05/18/2000
Prior, William Franklin Jr., Aiken, SC | 05/18/2000
Rafferty, Sharon D., Anchorage, AK | 05/18/2000
Rees, David G. Jr., Great Britain | 05/18/2000
Richardson, Elton Louis, Los Angeles, CA | 05/18/2000
Robertson, Dorothy Ann, Dallas, TX | 05/18/2000
Rockett, Joan, Manchester, NH | 05/18/2000
Ross, Tonya L., Stockbridge, VT | 05/18/2000
Rucker, Susan B., Portsmouth, NH | 05/18/2000
Rudofski, Sharon L., Walled Lake, MI | 05/18/2000
Sacks, Irving B., Moss Beach, CA | 05/18/2000
Sakmar, Daniel Andrew, Pittsburgh, PA | 05/18/2000
Salzameda, Richard Gustavo, San Bernardino, CA | 05/18/2000
Schmidt, Theresa Cox, Philadelphia, PA | 05/18/2000
Sessler, Connie L., Shell Rock, IA | 05/18/2000
Shoemaker, Willa Mae Wells, Liberty, KY | 05/18/2000
Simpson, Cynthia L., Shady Hill, FL | 05/18/2000
Slater, Linda Lee, Orange, TX | 05/18/2000
Smith, Cynthia Floree, Delhi, CA | 05/18/2000
Smith, Leslie Marie, Landers, CA | 05/18/2000
Smith, Sheila K., Flora, IL | 05/18/2000
Smith, Dennis J., Revere, MA | 05/18/2000
Snyder, Celia V., Vista, CA | 05/18/2000
Stallman, Mark, Chicago, IL | 05/18/2000
Stevens, Katherine Retha, Clearlake, CA | 05/18/2000
Stokes, Carlos D., Chicago, IL | 05/18/2000
Stone, Mildred V., Craftsbury, VT | 05/18/2000
Street, Steven Wayne, Hudson, FL | 05/18/2000
Stumpf, Craig Allen, Delray Beach, FL | 05/18/2000
Sturm, Mary J., Rochester Hills, MI | 05/18/2000
Su, Yong Fang, Garden Grove, CA | 05/18/2000
Sullivan, Elizabeth M., Shelburne, VT | 05/18/2000
Swaim, James Ray, Jr., Wichita Falls, TX | 05/18/2000
Swarts, Shirley Elaine, Fresno, CA | 05/18/2000
Tate, Joni James, Muscle Shoals, AL | 05/18/2000
Taylor, Henry Keith, Thousand Oaks, CA | 05/18/2000
Thatcher, Wendy L., South Dennis, MA | 05/18/2000
Thompson, Barbara G., Dearborn, MI | 05/18/2000
Todd, Diane Ona, Billerica, MA | 05/18/2000
Tornillo, Pamela, West Haven, CT | 05/18/2000
Townes, Emma B., Midlothian, VA | 05/18/2000
Ward, Donna Kaye Williams, Decatur, AL | 05/18/2000
Warren, William E., Shoreview, MN | 05/18/2000
Weeks, Glenn, Madison, AL | 05/18/2000
Weston, Martha Louise-Leathers, Russell, PA | 05/18/2000
Willis, Paul Randall, Auburn, AL | 05/18/2000
Worley, Anthony Wayne, Alta Loma, CA | 05/18/2000
Youngue, Eugene L., III, Pittsburgh, PA | 05/18/2000
Zaffer, Sheila L., Lake Forest, IL | 05/18/2000
Federal/State Exclusion/Suspension
Chen, Samuel, Chicago, IL | 05/18/2000
Competent Care, Inc., Newburgh, NY | 05/18/2000
Crevar, David, Clairton, PA | 05/18/2000
Medicine Shoppe, Clairton, PA | 05/18/2000
Fraud/Kickbacks
Fromer, Carl, Staten Island, NY | 03/30/2000
Kimberly Home Health Care, Inc., Melville, NY | 07/19/2000
Pozzi, Deborah, Wood Dale, IL | 02/03/2000
Owned/Controlled by Convicted Excluded
ABC Eureka Medical Rentals, Hialeah, FL | 05/18/2000
Affordable Dental Care of Cape, Boca Raton, FL | 05/18/2000
Doherty Chiropractic, Abington, MA | 05/18/2000
Marketing & Management Special, Atlanta, GA | 05/18/2000
Professional Medical Care, Inc., Miami, FL | 05/18/2000
Prometo Counseling Center, Inc., Miami, FL | 05/18/2000
Southwest Health Services, Inc., Stone Mountain, GA | 05/18/2000
Southwest Health Services, Inc., Atlanta, GA | 05/18/2000
Speech Pathology Service, Inc., Parairie Village, KS | 05/18/2000
Tri-County Medical Clinic, LTD., Vandalia, IL | 05/18/2000
Wallace Chiropractic Center, Artesia, NM | 03/31/2000
Default on Heal Loan
Alesescu, Kenneth J., Auburn, CA | 04/05/2000
Alley, Michael K., N. Little Rock, AR | 05/18/2000
Anderson-McGruder, Denise, Detroit, MI | 03/31/2000
Antolos, John, New York, NY | 05/18/2000
Bedell, Andrew D., Tulsa, OK | 03/30/2000
Bohn, Ralph R., Louisville, KY | 05/18/2000
Bunker, Lane P., Longmont, CO | 05/18/2000
Cantong, David E., San Gabriel, CA | 05/18/2000
Carr, Terry A., Maryville, WI | 05/18/2000
Dale-Frimml, Jaymee J., Nampa, ID | 05/18/2000
Davidson, Clifford M., Knoxville, TN | 03/29/2000
Dennis, Gwenda B., Laguna Hills, CA | 05/18/2000
Dugan-Santaloci, Blaise N., Brockton, MA | 05/18/2000
Ellenberger, Lori M., Riverside, CA | 05/18/2000
Erickson, Thomas M., Cornelius, NC | 05/18/2000
Gergen, Daivid W., Nags Head, NC | 05/18/2000
Ginzburg, Asya, Stamford, CT | 05/18/2000
Gray, Cynthia, D., Vancouver, WA | 05/18/2000
Guerrier, Donald D., Jamaica, NY | 05/18/2000
Hancock, John T., Mooresburg, TN | 05/18/2000
Head, Philip A., Jr., Galveston, TX | 04/11/2000
Homer, Milton H., Kent, WA | 05/18/2000
Hunter, Jennifer E., Metairie, LA | 05/18/2000
Husain, Mehtab, Lewisburg, PA | 02/09/2000
Jones, Carma Rochelle, Stafford, TX | 05/18/2000
Kershner, Patricia A., Jonesboro, GA | 05/18/2000
Kidd, Crayton C., Farmington Hills, MI | 05/18/2000
Kratt, Thomas William, Nacogdoches, TX | 04/05.2000
Kullrich, Regant T., Oakhurst, CA | 04/05/2000
Lapham, David V., Danboro, PA | 05/18/2000
Madrid, Martha, Encino, CA | 05/18/2000
Mason, Peggy J., Venice, FL | 05/18/2000
Matsuzaki, Maurice M., Honolulu, HI | 05/18/2000
Noble, Craig J., Redford, MI | 04/05/2000
O'Brien, Stephanie M., Decatur, GA | 05/18/2000
Oksenholt, Lorrie M., Reno, NV | 03/13/2000
Pak, Jae S., Santa Ana, CA | 05/18/2000
Pizarro, Joanna C., Aliso Viejo, CA | 05/18/2000
Sartz, Patrick M., Chandler, AZ | 05/18/2000
Scopelliti, Aldo R., W.Long Branch, NJ | 05/18/2000
Seymour, Mark A., Elkridge, MD | 05/18/2000
Smith, Gwendolyn D., Tuscaloosa, Al | 05/18/2000
Smith, Jill D., San Andreas, CA | 05/18/2000
Stockslager, Viki L., Toledo, OH | 05/18/2000
Stone, John L., Bay Springs, MS | 05/18/2000
Stumpf, Gregory R., Ozark, MO | 05/18/2000
Trusty, George, Syracuse, NY | 05/18/2000
Turner, Joshua, Far Rockaway, NY | 05/18/2000
Von Eberstein, Harle A., Lakewood, CO | 05/18/2000
Wade, Michael J., Coachella, CA | 05/18/2000
Wallace, Richard Larry, Jr., Artesia, NM | 03/31/2000
Will, Richard S., Radnor, PA | 05/18/2000

Dated: May 2, 2000.
Calvin Anderson,
Acting Director, Health Care Administrative Sanctions, Office of Inspector General.

[FR Doc. 00-11848 Filed 5-10-00; 8:45 am]

BILLING CODE 4150-04-M